Proclamation 10630 of September 22, 2023

National Hunting and Fishing Day, 2023

By the President of the United States of America

A Proclamation

America's natural wonders are the heart and soul of our Nation, and the tens of millions of Americans who hunt and fish have often led the fight to conserve them. On National Hunting and Fishing Day, we recommit to the work of conservation and celebrate the place that hunting and fishing hold in our national story, embodying the American spirit of adventure and resourcefulness.

Hunting and fishing have long been a way of life and a cherished pastime in our Nation, and central to the cultures and livelihoods of Tribal Nations. From day one, I have taken historic steps to conserve the lands and waters that these activities rely on and to ensure our public lands are available to every American.

In my first week as President, I signed an Executive Order establishing our country's most ambitious conservation goal ever: to conserve or restore at least 30 percent of our Nation's lands and waters by 2030. In just my first year in office, we protected more territory than any President since John F. Kennedy. We have protected iconic and sacred places from Alaska's Tongass Forest to Avi Kwa Ame National Monument and the Bears Ears and Grand Staircase-Escalante National Monuments—all as part of our “America the Beautiful” initiative to support locally led conservation and restoration work. In addition, we have expanded access for hunting and fishing on over two million acres of land within our national wildlife refuge system, the largest such expansion in recent history. Working together with the Hunting and Wildlife Conservation Council, the Departments of Agriculture and the Interior are pursuing further improvements to hunters' and anglers' access to public lands and waters.

At the same time, climate change poses an existential threat to wildlife and their habitats. Longer heatwaves and droughts, more unpredictable storms, and more devastating wildfires make hunting and fishing tougher and far riskier. We have fought to change that. Through the landmark Inflation Reduction Act, my Administration is making the biggest investment in combating the climate crisis in the history of the world by strengthening clean energy, advancing environmental justice, and shoring up communities' resilience to extreme weather, ensuring that hunting and fishing can sustainably continue as they have for generations.

It is simple: Hunting and fishing are part of who we are as Americans—central to our history, heritage, and prosperity and ingrained in the soul of our Nation. Protecting the natural resources that allow hunting and fishing are also an important part of upholding our sacred trust, treaty, and subsistence responsibilities to Tribal Nations and Indigenous communities. On National Hunting and Fishing Day, we honor these profound contributions and recommit to working together with sportsmen and sportswomen, land owners, State officials, local leaders, and Tribal Nations to safeguard our great outdoors for the ages.

NOW, THEREFORE, I, JOSEPH R. BIDEN JR., President of the United States of America, by virtue of the authority vested in me by the Constitution and the laws of the United States, do hereby proclaim September 23, 2023, as National Hunting and Fishing Day. I call upon all Americans to observe this day with appropriate programs and activities.

IN WITNESS WHEREOF, I have hereunto set my hand this twenty-second day of September, in the year of our Lord two thousand twenty-three, and of the Independence of the United States of America the two hundred and forty-eighth.

[FR Doc. 2023-21650

Filed 9-27-23; 11:15 am]

Billing code 3395-F3-P